ENVIRONMENTAL PROTECTION AGENCY

40 CFR Part 52

[AZ 063-0026(b); FRL-6864-7]

Revisions to the Arizona State Implementation Plan, Pinal County Air Quality Control District; Reopening of Comment Period

AGENCY: Environmental Protection Agency (EPA).

ACTION: Proposed rule; reopening of comment period.

SUMMARY: EPA is reopening the comment period for action proposed to the Arizona State Implementation Plan on July 14, 2000 (65 FR 43727).

DATE: Any comments on this proposal must arrive by October 6, 2000.

ADDRESSES: Mail comments to Andy Steckel, Rulemaking Office Chief (Air-4), U.S. Environmental Protection Agency, Region IX, 75 Hawthorne Street, San Francisco, CA 94105-3901.

FOR FURTHER INFORMATION CONTACT: Yvonne Fong, Rulemaking Office (Air-4), U.S. Environmental Protection Agency, Region IX, (415) 744-1199.

SUPPLEMENTARY INFORMATION: On July 14, 2000, EPA proposed the following revisions to the Arizona State Implementation Plan (SIP).

Local agency | Rule No. | Proposed action
Pinal County AQCD | 5-9-278 | Disapproval.
Pinal County AQCD | 5-9-280 | Disapproval.
Pinal County AQCD | 5-10-330 | Disapproval.
Pinal County AQCD | 5-11-350 | Disapproval.
Pinal County AQCD | 5-12-370 | Disapproval.
Pinal County AQCD | 5-13-390 | Disapproval.
Pinal County AQCD | 5-15-622 | Disapproval.
Pinal County AQCD | 7-3-3.4 | Disapproval.

The proposed action provided a 30-day public comment period.

In response to a request from San Juan Fiberglass Pools, EPA is reopening the comment period for an additional 30 days.

Dated: August 22, 2000.
Nora McGee,
Acting Regional Administrator, Region IX.

[FR Doc. 00-22812 Filed 9-5-00; 8:45 am]

BILLING CODE 6560-50-P